DEPARTMENT OF TRANSPORTATION

Federal Aviation Administration

Sixty-Second Meeting: RTCA Special Committee 186, Automatic Dependent Surveillance-Broadcast (ADS-B)

AGENCY: Federal Aviation Administration (FAA), U.S. Department of Transportation (DOT).

ACTION: Meeting Notice of RTCA Special Committee 186, Automatic Dependent Surveillance-Broadcast (ADS-B).

SUMMARY: The FAA is issuing this notice to advise the public of the sixty second meeting of the RTCA Special Committee 186, Automatic Dependent Surveillance-Broadcast (ADS-B).

DATES: The meeting will be held January 23, 2015 from 9:00 a.m.-5:00 p.m.

ADDRESSES: The meeting will be held at the RTCA Headquarters—NBAA & Colson Conference Rooms, 1150 18th Street NW., Suite 910, Washington, DC 20036

FOR FURTHER INFORMATION CONTACT: The RTCA Secretariat, 1150 18th Street NW., Suite 910, Washington, DC, 20036, or by telephone at (202) 330-0662/(202) 833-9339, fax (202) 833-9434, or Web site at http://www.rtca.org.

SUPPLEMENTARY INFORMATION: Pursuant to section 10(a)(2) of the Federal Advisory Committee Act (Pub. L. 92-463, 5 U.S.C., App.), notice is hereby given for a meeting of Special Committee 186. The agenda will include the following:

January 23 2015

• Chairman's Introductory Remarks

• Review of Meeting Agenda

• Review/Approval of the 61st Meeting Summary, RTCA Paper No. RTCA Paper No. 169-14/SC186-335

• Surveillance Broadcast Services (SBS) Program Status

• European Activities

• Updated SC-186 Terms of Reference

• WG-4—Application Technical Requirements

○ Flight Deck-based Interval Management (FIM) MOPS Status & Schedule

○ Cockpit Assisted Pilot Procedures (CAPP)

○ Preliminary look at recent MITRE HITL

• Advanced Interval Management (A-IM) Development

• Coordination with SC-214/WG-78 for ADS-B Application Data Link Rqts-Status

• FAA information briefings

○ Equip 2020

○ Planned TIS-B Service Changes

○ Recent Regulatory/Guidance/Policy updates

○ Summary of Avionics Monitoring results

• Date, Place and Time of Next Meeting

• New Business

○ Overview of 1090 MHz Phase Modulation Research

• Other Business.

○ Status brief on Wake Vortex Tiger Team

• Review Action Items/Work Programs

• Adjourn Plenary

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC on December 22, 2014.
Mohannad Dawoud,
Management Analyst, Program Oversight and Administration, NextGen, Management Services, Federal Aviation Administration.

[FR Doc. 2014-30551 Filed 12-30-14; 8:45 am]

BILLING CODE 4910-13-P